ENVIRONMENTAL PROTECTION AGENCY

[FRL-8322-1]

External Peer Review of Draft Final Report: “Comparison of the Alternative Asbestos Control Method and the NESHAP Method for Demolition of Asbestos-Containing Buildings”

AGENCY: Environmental Protection Agency (EPA).

ACTION: Notice of external peer review panel meeting.

SUMMARY: The U.S. Environmental Protection Agency (EPA) is announcing an external peer review panel meeting to review the draft Final Report for the Alternative Asbestos Control Method (AACM) Demonstration Project. EPA will use comments and recommendations from the expert panel meeting to finalize the draft report.

The U.S. EPA conducted a controlled demonstration to evaluate the AACM alongside the current National Emissions Standards for Hazardous Air Pollutants (NESHAP) method in a remote, secure location at Fort Chaffee, Arkansas. To facilitate side-by-side comparison, the demonstration used two similar structures with asbestos-containing materials. Additional information about this research project, including a description of the AACM and the project schedule, is available at http://epa.gov/region6/6xa/asbestos.htm.

DATES: A public comment period for the draft Final Report is currently open and will last until June 14, 2007. Members of the public may submit comments to Regulations.gov (see SUPPLEMENTARY INFORMATION below). The peer review panel meeting will begin on June 20, 2007, at approximately 11:15 a.m. and end at 4 p.m. on June 21, 2007. Members of the public may attend the peer review panel meeting. Time will be set aside on the morning of June 20, 2007 for registered attendees who wish to make oral comments (for more information refer to the instructions for registration below).

ADDRESSES: Eastern Research Group, Inc. (ERG), an EPA contractor for external scientific peer review, will convene an independent panel of experts and organize and conduct an external peer review panel meeting to review this draft report. The external peer review panel meeting will be held at EPA's Andrew W. Breidenbach Environmental Research Center (AWBERC) located at 26 W. Martin Luther King Drive, Cincinnati, OH.

Observers may attend the peer review panel meeting by registering online at the Web site, https://www2.ergweb.com/projects/conferences/region6/register.htm or by calling ERG's conference line between the hours of 9 a.m. and 5:30 p.m. EDT at (781) 674-7374 or toll free at 800-803-2833, or by faxing a registration request to (781) 674-2906 (include full address and contact information). Pre-registration is strongly recommended as space is limited, and registrations will be accepted on a first-come, first-served basis. The deadline for online pre-registration is June 13, 2007. If space allows, telephone and fax registrations will continue to be accepted after this date, including on-site registration. Time will be set aside to hear comments from observers, and individuals will be limited to a maximum of five minutes during the morning of the first day of the meeting. Please sign up for a time slot on the registration page, or if registering via telephone, inform ERG that you wish to make comments during the comment period. Public comments submitted to Regulations.gov by June 14, 2007 will be provided to the external peer review panel prior to the meeting.

The draft Final Report is available via the Internet at http://epa.gov/region6/6xa/asbestos.htm or http://www.regulations.gov under docket ID number EPA-HQ-ORD-2007-0362. Copies are not available from ERG and copies will not be available onsite.

FOR FURTHER INFORMATION CONTACT: Questions regarding registration and logistics for the external peer review panel meeting should be directed to ERG, 110 Hartwell Avenue, Lexington, MA 02421-3136; telephone: (781) 674-7374 or toll free at 800-803-2833; or by faxing a registration request to facsimile: (781) 674-2906; e-mail meetings@erg.com.

If you have questions about the draft Final Report, contact Stephen Watkins, Office of Research and Development, Mail Code 8104-R, U.S. Environmental Protection Agency, 1200 Pennsylvania Avenue, NW., Washington, DC 20460; telephone number: (202) 564-3744; fax number: (202) 565-2925, E-mail: watkins.stephen@epa.gov.

SUPPLEMENTARY INFORMATION: EPA has established an official public docket for this action under docket ID number EPA-HQ-ORD-2007-0362 on the Internet at http://www.regulations.gov. The public docket contains the draft Final Report and a list of charge questions that have been submitted to the external peer reviewers.

Submit your comments, identified by Docket ID No. EPA-HQ-ORD-2007-0362 by one of the following methods:

• www.regulations.gov: Follow the on-line instructions for submitting comments.

• E-mail: ORD Docket@epa.gov.

• Mail: ORD Docket, Environmental Protection Agency, Mailcode: 28221T, 1200 Pennsylvania Ave., NW., Washington, DC 20460.

• Hand Delivery: EPA Docket Center (EPA/DC), Room 3334, EPA West Building, 1301 Constitution Avenue, NW., Washington, DC 20460, Attention Docket ID No. EPA-HQ-ORD-2007-0362. Deliveries are only accepted from 8:30 a.m. to 4:30 p.m., Monday through Friday, excluding legal holidays. Special arrangements should be made for deliveries of boxed information.

Instructions: Direct your comments to Docket ID No. EPA-HQ-ORD-2007-0362. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA, without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the ORD Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the ORD Docket is (202) 566-1752.

Dated: May 30, 2007.
Jeffery Morris,
Acting Director, Office of Science Policy.

[FR Doc. E7-10888 Filed 6-5-07; 8:45 am]

BILLING CODE 6560-50-P